DEPARTMENT OF HOUSING AND URBAN DEVELOPMENT

[Docket No. FR-5284-N-02]

Notice of Proposed Information Collection: Comment Request; Federal Labor Standards Payee Verification and Payment Processing

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Date: February 16, 2010.

ADDRESSES: Interested persons are invited to submit comments regarding this proposal. Comments should refer to the proposal by name and/or OMB control number and should be sent to: Lillian Deitzer, Reports Management Officer, Department of Housing and Urban Development, 451 7th Street, SW., Room 4178, Washington, DC 20410 or Lillian.L.Deitzer@hud.gov.

FOR FURTHER INFORMATION CONTACT: Jade Banks, Senior Policy Advisor, Office of Labor Relations, Department of Housing and Urban Development, 451 7th Street, SW., Room 2102, Washington, DC 20410 or Jade.M.Banks@hud.gov, telephone (202) 402-5475 (this is not a toll-free number) for additional information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Federal Labor Standards Payee Verification and Payment Processing.

OMB Control Number, if applicable: 2501-0021.

Description of the need for this information and proposed use: HUD, and State, local, and Tribal agencies administering HUD-assisted programs must enforce Federal labor standards requirements, including the payment of prevailing wage rates to laborers and mechanics employed on HUD-assisted construction and maintenance work that is covered by these requirements. Enforcement activities include securing funds to ensure the payment of wage restitution that has been or may be found due to laborers and mechanics who were employed on HUD-assisted projects, and the payment of liquidated damages that may be assessed for violations of Contract Work Hours and Safety Standards Act (CWHSSA) overtime violations. Ultimately, these funds are deposited to an account in the U.S. Treasury. If the labor standards discrepancies are resolved, HUD refunds associated amounts to the depositor. As underpaid laborers and mechanics are located, HUD sends wage restitution payments to the affected workers. Liquidated damages assessed for CWHSSA overtime violations are retained by HUD.

In order to make refunds and wage restitution payments, HUD must verify the identity of the payee to ensure that the refund is made to the correct depositor or wage restitution to the correct worker before payment is made. In order to complete these verifications, HUD will request information such as the depositor's or payee's tax identification number (i.e., employer identification number or Social Security Number); the project name or number; and/or the worker's employer's name.

All refunds from labor standards deposit accounts are made, electronically. Depositors entitled to a refund must provide to HUD the name, address, and the account information for the banking institution to which the depositor wants the refund sent. Wage restitution payments may be made by check or electronically, at the payee's choice. HUD must collect either the payee's mailing address, so that a check may be sent to them, or banking information for an electronic payment.

Agency form numbers: HUD-4734, Labor Standards Deposit Voucher. This form is completed by HUD staff after depositor or payee verification and the collection of payment processing information, i.e., banking details or mailing address.

Members of affected public: Developers and prime contractors engaged on HUD-assisted construction or maintenance work subject to Federal labor standards requirements; construction and maintenance laborers and mechanics employed on HUD-assisted projects subject to Federal labor standards requirements that are entitled to wage restitution.

Estimation of the total numbers of hours needed to prepare the information collection including number of respondents, frequency of responses, and hours of response: The estimated number of respondents is 50 per year. The estimated number of hours needed per respondent is .1 hours. The total public burden is estimated to be 5 hours per year. Payees do not need to complete a form; the information may be collected by HUD in person, by telephone, or in writing, at the payee's option.

Status: Extension of a currently approved collection.

Authority: The Paperwork Reduction Act of 1995, 44 U.S.C. Chapter 35, as amended.

Dated: December 8, 2009.
Waite H. Madison,
Director, Office of Labor Relations.

[FR Doc. E9-29956 Filed 12-15-09; 8:45 am]

BILLING CODE 4210-67-P